FEDERAL RESERVE SYSTEM

Change in Bank Control Notices; Acquisitions of Shares of a Bank or Bank Holding Company; Correction

This notice corrects a notice (FR Doc. 2022-18061) published on page 51418 in the first column of the issue for Monday, August 22, 2022.

Under A. Federal Reserve Bank of Chicago, entry 1 is corrected to read as follows:

1. Bernard Bennett Banks, Evanston, Illinois, as trustee of the Voting Trust Agreement, Miami, Florida; to acquire voting shares of National Bancorp Holdings, Inc., and thereby indirectly acquire voting shares of The Federal Savings Bank, both of Chicago, Illinois.

Comments on this application must be received by September 19, 2022.

Board of Governors of the Federal Reserve System.
Michele Taylor Fennell,
Deputy Associate Secretary of the Board.

[FR Doc. 2022-19081 Filed 9-1-22; 8:45 am]

BILLING CODE P